DEPARTMENT OF ENERGY

Federal Energy Regulatory Commission

[Docket No. RP01-397-000]

Great Lakes Gas Transmission Limited Partnership; Notice of Proposed Changes in FERC Gas Tariff and Request for Waiver

May 4, 2001.

Take notice that on May 1, 2001, Great Lakes Gas Transmission Limited Partnership (Great Lakes) tendered for filing as part of its FERC Gas Tariff, Second Revised Volume No. 1, the following tariff sheets with an effective date of June 1, 2001:

Third Revised Sheet No. 8A

Tenth Revised Sheet No. 9

Second Revised Sheet No. 50A

Great Lakes states that these tariff sheets are being filed to add a provision to its tariff stating that any gas transported for others utilizing off-system capacity will be pursuant to its Part 284 open access tariff and will be subject to its Commission-approved rates. The provision also states that Great Lakes may pass through to the benefiting shipper(s) any amounts Great Lakes must pay to a third party to acquire this off-system capacity.

Great Lakes is requesting a generic waiver of the Commission's “shipper must hold title” policy to permit it to provide transportation for others on such acquired off-system capacity.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11790 Filed 5-9-01; 8:45 am]

BILLING CODE 6717-01-M